DEPARTMENT OF THE INTERIOR

National Park Service

Final Environmental Impact Statement/Fire Management Plan, Point Reyes National Seashore, Marin County, CA; Notice of Availability

Summary: Pursuant to section 102(2)(C) of the National Environmental Policy Act of 1969 (Pub. L. 91-190, as amended), and the Council on Environmental Quality Regulations (40 CFR part 1500-1508), the National Park Service (NPS), Department of the Interior, has prepared a Final Environmental Impact Statement identifying and evaluating three alternatives for a Fire Management Plan for Point Reyes National Seashore administered lands. Potential impacts, and appropriate mitigations, are assessed for each alternative. When approved, the plan will guide all future fire management actions on lands administered by Point Reyes National Seashore. The Fire Management Plan and Final Environmental Impact Statement (FMP/FEIS) documents the analyses of two action alternatives, and a “no action” alternative.

Revisions to the 1993 Fire Management Plan are needed to meet public and firefighter safety, natural and cultural resource management, and wildland urban interface objectives for the Point Reyes National Seashore and the north district of Golden Gate National Recreation Area. The action alternatives vary in the emphasis they place on fire management goals developed by the park. The current program has been effective in fire suppression and conducting limited fuel reduction in strategic areas, but has not been able to fully accomplish resource management, fuel reduction, and prescribed fire goals.

The planning area for the Fire Management Plan (FMP) includes NPS lands located approximately 40 miles northwest of San Francisco in Marin County, California. These lands include the 70,046-acre Point Reyes National Seashore, comprised primarily of beaches, coastal headlands, extensive freshwater and estuarine wetlands, marine terraces, and forests; as well as 18,000 acres of the Northern District of Golden Gate National Recreation Area (GGNRA), primarily supporting annual grasslands, coastal scrub, and Douglas-fir and coast redwood forests.

Proposed Fire Management Plan. Alternative C is the preferred alternative in the final FMP/FEIS and remains unchanged from the draft EIS. Under Alternative C “Increased Natural Resource Enhancement and Expanded Hazardous Fuel Reduction”, fire management actions will be used to markedly increase efforts to enhance natural resources and reduce hazardous fuels. This alternative includes objectives for increasing the abundance and distribution of federally listed species, reducing infestations of invasive, non-native plants and increasing native plant cover. Prescribed burning and mechanical treatments will be used to protect or enhance cultural resources, such as reducing vegetation in areas identified as important historic viewsheds. Alternative C permits the highest number of acres treated annually for hazardous fuels reduction concentrating on high priority areas (e.g., along road corridors, around structures, and in strategic areas to create fuel breaks). Up to 3,500 acres could be treated per year using prescribed fire and mechanical treatments. Under this alternative, research efforts will be expanded to determine the effects of fire on natural resources of concern (e.g., rare and non-native species) and to determine the effectiveness of various treatments for fuel reduction. Research results will be used adaptively to guide the fire management program in maximizing benefits to natural resources, while protecting lives and property. This alternative will reduce the threat of a catastrophic wildland fire to a more stable fire condition at Year 13 of implementation rather than Year 23 as in Alternative B or indefinite extension of the program under Alternative A, the No Action Alternative. Ten of eleven Fire Management Units (FMUs) will be treated under Alternative C; the eleventh FMU—the Minimum Management FMU—is primarily leased for agriculture and is subject to defensible space and roadside clearing under all three alternatives. As documented in the final EIS, Alternative C was also deemed to be the “Environmentally Preferred” Alternative.

Alternatives: The final FMP/FEIS analyzes two other alternatives. Alternative A, Continued Fuel Reduction for Public Safety and Limited Resource Enhancement, is the No Action Alternative representing the current fire management program. The current program uses a limited range of fire management strategies—including prescribed fire, mechanical treatment, and suppression of all wildland fires, including natural ignitions. Alternative A would continue the existing program described in the 1993 Fire Management Plan including mechanical treatments of hazardous fuels of up to 500 acres per year, primarily mowing in grasslands. Up to 500 acres per year would be treated by prescribed burning, primarily for fuel reduction in grasslands and for Scotch and French broom control. Total treatments per year will not exceed 1,000 acres. Research projects already in progress on reducing Scotch broom and velvet grass through prescribed burning would continue under this alternative. In continuing current practices, treatments would occur in four of eleven FMUs sited along the primary roadways. This program does not place emphasis on wildland/urban interface communities.

Alternative B—Expanded Hazardous Fuel Reduction and Additional Natural Resource Enhancement. Alternative B calls for a substantial increase over present levels in the reduction of hazardous fuels through prescribed burning and mechanical treatments (up to a combined total of 2,000 acres treated per year). Efforts would be concentrated where unplanned ignitions will be most likely to occur (e.g., road corridors), and where defensible space could most effectively contain unplanned ignitions and protect lives and property (e.g., around structures and strategically along the park interface zone). Natural resource enhancement would occur as a secondary benefit only. For example, prescribed burning to reduce fuels may have the secondary resource benefit of controlling a flammable, invasive non-native plant. Fire management actions would occur in nine of eleven FMUs with no projects occurring at the low grasslands within the Headlands FMU or in the Minimum Management FMU. Assuming full annual implementation, a stable fire condition with a lowered potential for a catastrophic fire such as the 1995 Vision Fire, could be achieved by Year 23 of plan implementation.

Planning Background: On January 27, 2000, a “Notice of Scoping” for Fire Management Plan at Point Reyes National Seashore was published in the Federal Register. The beginning of public scoping was announced on January 29, 2000, at a public meeting of the Point Reyes National Seashore Citizens Advisory Commission with a presentation on the FMP planning process. In a series of internal and public scoping meetings input on fire management issues of concern and range of alternatives was solicited from the public, federal, state and local agencies, and NPS resource specialists. Briefing continued for local fire management and protection agencies during the FMP preparation. Scoping comments were solicited from January 27 through March 28, 2000. The major issues raised during the public review period are summarized in Chapter 1, Purpose of and Need for the Action. Approximately 50 people were involved in public scoping activities.

A “Notice of Availability” of the Draft FMP EIS was published in the Federal Register on February 20, 2004, noted in San Francisco Bay area newspapers and mailed to the Point Reyes National Seashore mailing list (210 individuals and organizations). Fifteen copies of the Draft FMP EIS were sent to the California Clearinghouse for distribution. Copies of the document were also sent to interested parties, public libraries and state and federal agencies and the full document was posted on the park internet site. Approximately 15 other copies were distributed to the public when requested. A public workshop was held at the Point Reyes National Seashore Red Barn meeting room on the evening of March 18, 2004. The workshop was advertised by a mass mailing (210 individuals and organizations) and a notice was placed in the local newspapers. Approximately 15 people came to the public workshop on the Draft FMP EIS.

Comments on the draft were accepted until April 20, 2004. The NPS received seven written responses, including two letters comprising the informal consultation process as required for Endangered Species Act conformance. All comments were duly considered in preparing the FMP FEIS. All comments are reprinted in the FMP FEIS and are part of the administrative record for the FMP. The main issues and concerns expressed by the respondents included: clarification of conformance with air district regulations and prescribed burning procedures, smoke effects on public health, visual impacts of prescribed burns, effects on vegetation clearing on wildlife and privacy, and opportunity for continued communication between wildlife resources agency and the park.

As part of this planning process, consultation for NEPA Section 7 was held with the U.S. Fish and Wildlife Service (USFWS), NOAA Fisheries Service. For NHPA, 106 Compliance, the State of California Preservation Offices (SHPO), and the Advisory Council for Historic Preservation were also contacted. Only the Washington State Historic Preservation Office responded with formal written comments. Neither the SHPOs nor the Advisory Council raised any concerns regarding the implementation of the Selected Plan. The USWFS provided comments that are incorporated in the Final FMP FEIS and NOAA concurred with the parks finding of not likely to adversely affect listed species.

Addresses:

Printed or CD copies of the FMP FEIS may be obtained from the Superintendent, Point Reyes National Seashore, Point Reyes, CA 94956, Attn: Fire Management Plan, or by e-mail request to: Ann_Nelson@nps.gov (in the subject line, type: Fire Management Plan)—it will be sent directly to those who have requested it. The FEIS FMP can be obtained on the park's Web page (http://www.nps.gov/pore/pphtml/documents.html), and the printed document and digital version on compact disk will also be available at the park headquarters and local libraries. Please note that names and addresses of people who comment become part of the public record. If individuals commenting request that their name or/and address be withheld from public disclosure, it will be honored to the extent allowable by law. Such requests must be stated prominently in the beginning of the comments. There also may be circumstances wherein the NPS will withhold from the record a respondent's identity, as allowable by law. As always: the NPS will make available to public inspection all submissions from organizations or businesses and from persons identifying themselves as representatives or officials of organizations and businesses; and, anonymous comments may not be considered.

Decision:

As a delegated EIS, the official responsible for the final decision is the Regional Director, Pacific West Region; a Record of Decision may be approved not sooner than 30 days after EPA's publication of the notice of filing of the FMP FEIS in the Federal Register. Notice of the final decision will be similarly posted in the Federal Register and announced in local and regional newspapers. Following approval of the Fire Management Plan, the official responsible for implementation will be the Superintendent, Point Reyes National Seashore.

Dated: June 25, 2004.
Jonathan B. Jarvis,
Regional Director, Pacific West Region.

[FR Doc. 04-19787 Filed 8-30-04; 8:45 am]

BILLING CODE 4312-FW-P